DEPARTMENT OF THE TREASURY

United States Mint

Notification of United States Mint Coin Product Price Adjustment

ACTION: Notification of United States Mint Coin Product Price Adjustment.

SUMMARY: The United States Mint is announcing the price of the 2008 American Eagle Silver Proof Coin.

Because of increases in the cost of silver, the United States Mint will begin accepting orders for the 2008 American Eagle Silver Proof Coin at the price indicated below, effective December 3, 2007:

Product | 2007 price | New 2008 coin price
American Eagle Silver Proof Coin | $ 29.95 | $ 31.95

FOR FURTHER INFORMATION CONTACT: Gloria C. Eskridge, Associate Director for Sales and Marketing; United States Mint; 801 Ninth Street, NW.; Washington, DC 20220; or call 202-354-7500.

Authority: 31 U.S.C. 5111, 5112 & 9701.

Dated: November 28, 2007.
Edmund C. Moy,
Director, United States Mint.

[FR Doc. E7-23487 Filed 12-3-07; 8:45 am]

BILLING CODE 4810-02-P